DEPARTMENT OF COMMERCE

Foreign-Trade Zones Board

[B-11-2022]

Foreign-Trade Zone (FTZ) 61—San Juan, Puerto Rico Notification of Proposed Production Activity, AIAC International Pharma, LLC (Pharmaceutical Products), Arecibo, Puerto Rico

The Department of Economic Development and Commerce, grantee of FTZ 61, submitted a notification of proposed production activity to the FTZ Board (the Board) on behalf of AIAC International Pharma, LLC, located in Arecibo, Puerto Rico within Subzone 61D. The notification conforming to the requirements of the Board's regulations (15 CFR 400.22) was received on April 1, 2022.

Pursuant to 15 CFR 400.14(b), FTZ production activity would be limited to the specific foreign-status material and specific finished product described in the submitted notification (summarized below) and subsequently authorized by the Board. The benefits that may stem from conducting production activity under FTZ procedures are explained in the background section of the Board's website—accessible via www.trade.gov/ftz. The proposed finished product and material would be added to the production authority that the Board previously approved for the operation, as reflected on the Board's website.

The proposed finished product is XCOPRI (cenobamate tablets) (duty-free).

The proposed foreign-status material is cenobamate active pharmaceutical ingredient (duty rate 6.5%).

Public comment is invited from interested parties. Submissions shall be addressed to the Board's Executive Secretary and sent to: ftz@trade.gov. The closing period for their receipt is May 18, 2022.

A copy of the notification will be available for public inspection in the “Online FTZ Information System” section of the Board's website.

For further information, contact Christopher Wedderburn at Chris.Wedderburn@trade.gov.

Dated: April 5, 2022.
Andrew McGilvray,
Executive Secretary.

[FR Doc. 2022-07575 Filed 4-7-22; 8:45 am]

BILLING CODE 3510-DS-P